DEPARTMENT OF AGRICULTURE

Forest Service

Catron County Resource Advisory Committee

AGENCY: Forest Service, USDA.

ACTION: Notice of meeting.

SUMMARY: The Catron County Resource Advisory Committee will meet in Reserve, New Mexico, on August 1, 2003, at 10 a.m. MDST. The purpose of the meeting is to discuss use of product proposal form, establish process for project submission, evaluate submitted projects and select products for recommendation.

DATES: The meeting will be held August 1, 2003.

ADDRESSES: The meeting will be held at the Catron County Courtroom of the Catron Country Court House, 101 Main Street, Reserve, New Mexico, 87830. Send written comments to Michael Gardner, Catron County Resource Advisory Committee, c/o Forest Service, USDA, 3005 E. Camino del Bosque, Silver City, New Mexico, 88061-7863 or electronically to mgardner01@fs.fed.us.

FOR FURTHER INFORMATION CONTACT: Michael Gardner, Rural Community Assistant Staff, Gila National Forest, (505) 388-8212.

SUPPLEMENTARY INFORMATION: The meeting is open to the public. Committee discussion is limited to Forest Service staff and Committee members unless provided for on the agenda. However, persons who wish to bring Pub. L. 106-393 related matters to the attention of the Committee may file written statements with the Committee Staff before or after the meeting. Public input sessions will be provided and individuals may address the Committee at times provided on the agenda in the morning and afternoon.

Dated: July 11, 2003.
Marcia R. Andre,
Forest Supervisor, Gila National Forest.

[FR Doc. 03-18079 Filed 7-16-03; 8:45 am]

BILLING CODE 3410-11-M